DEPARTMENT OF TRANSPORTATION

Federal Aviation Administration

Notice of Passenger Facility Charge (PFC) Approvals and Disapprovals

AGENCY: Federal Aviation Administration (FAA), DOT.

ACTION: Monthly Notice of PFC Approvals, and Disapprovals. In November 2004, there were six applications approved. This notice also includes information on three applications, approved in October 2004, inadvertently left off the October 2004 notice. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Luzerne and Lackawanna Counties, Avoca, Pennsylvania.

Application Number: 04-04-U-00-AVP.

Application Type: Use PFC revenue.

PFC Level: $4.50.

Total PFC Revenue to be Used in This Decision: $522,012.

Charge Effective Date: May 1, 2001.

Estimated Charge Expiration Date: April 1, 2011.

Class of Air Carriers Not Required To Collect PFC's: No change from previous decision.

Brief Description of Projects Approved For Use: Design and construct snow removal equipment maintenance facility. Design and construct airport perimeter fence. Acquire snow removal equipment.

Decision Date: October 21, 2004.

FOR FURTHER INFORMATION CONTACT: Lori Ledebohm, Harrisburg Airports District Office, (717) 730-2835.

Public Agency: Gillette-Campbell County Airport Board, Gillette, Wyoming.

Application Number: 04-04-U-00-GCC.

Application Type: Use PFC revenue.

PFC Level: $4.50.

Total PFC Revenue To Be Used in This Decision: $40,000.

Charge Effective Date: December 1, 2001.

Estimated Charge Expiration Date: December 1, 2004.

Class of Air Carriers Not Required To Collect PFC's: No change from previous decision.

Brief Description of Project Approved For Use: Construct combined aircraft rescue and firefighting/snow removal equipment building.

Decision Date: October 29, 2004.

FOR FURTHER INFORMATION CONTACT: Christopher J. Schaffer, Denver Airports District Office, (303) 342-1258.

Public Agency: Gillette-Campbell County Airport Board, Gillette, Wyoming.

Application Number: 04-05-C-00-GCC.

Application Type: Impose and use a PFC.

PFC Level: $4.50.

Total PFC Revenue Approved in This Decision: $170,000.

Earliest Charge Effective Date: January 1, 2005.

Estimated Charge Expiration Date: January 1, 2008.

Classes of Air Carriers Not Required To Collect PFC's: Air taxi/commercial operators filing or required to file FAA Form 1800-31.

Determination: Approved. Based on information contained in the public agency's application, the FAA has determined that the approved class accounts for less than 1 percent of the total annual enplanements at Gillette-Campbell County Airport.

Brief Description of Project Approved for Collection and Use: Acquire two snow removal vehicles.

Decision Date: October 29, 2004.

FOR FURTHER INFORMATION CONTACT: Christopher J. Schaffer, Denver Airports District Office, (303) 342-1258.

Public Agency: Augusta Aviation Commission, Augusta, Georgia.

Application Number: 04-02-C-00-AGS.

Application Type: Impose and use a PFC.

PFC Level: $4.50.

Total PFC Revenue Approved in This Decision: $2,007,000.

Earliest Charge Effective Date: July 1, 2030.

Estimated Charge Expiration Date: August 1, 2032.

Class of Air Carriers Not Required To Collect PFC's: Nonscheduled/on-demand air carriers.

Determination: Approved. Based on information contained in the public agency's application, the FAA has determined that the approved class accounts for less than 1 percent of the total annual enplanements at Augusta Regional Airport.

Brief Description of Projects Approved for Collection And Use:

Fencing improvements.

Terminal security improvements.

Runway safety area improvements.

Communications equipment.

Runway 8/26 rehabilitation.

General aviation apron partial pavement rejuvenation.

Taxiway E crack sealing.

Airport layout plan update.

Runway 17/35 rehabilitation.

PFC development, implementation, and administration.

Decision Date: November 4, 2004.

FOR FURTHER INFORMATION CONTACT: Paul Lo, Atlanta Airports District Office, (404) 305-7145.

Public Agency: Monroe County Board of Commissioners, Key West, Florida.

Application Number: 04-08-C-00-EYW.

Application Type: Impose and use a PFC.

PFC Level: $4.50.

Total PFC Revenue Approved in This Decision: $425,250.

Earliest Charge Effective Date: February 1, 2005.

Estimated Charge Expiration Date: July 1, 2005.

Classes of Air Carriers not Required to Collect PFC's: (1) Air taxi/commercial operators filing FAA form 1800-31; and (2) communters or small certificated air carriers filing Department of Transportation Form 298C T1 or E1.

Determination: Approved. Based on information contained in the public agency's application, the FAA has determined that each approved class accounts for less than 1 percent of the total annual enplanements at Key West International Airport (EYW).

Brief Description of Projects Approved for Collection at EYW and Use at EYW:

PFC application.

Noise improvement program phase 4.

Noise contour update #5.

New terminal complex development—phase II.

Customs building rehabilitation.

Taxiway 9 pavement rehabilitation.

New terminal design including permitting.

Wildlife study.

Acquire pavement sweeper.

Seal coat ramps and mark, phase II.

Environmental mitigation, mosquito ditches.

Security perimeter fencing.

Brief Description of Projects Approved for Collection at EYW and Use at Florida Keys Marathon Airport:

Rehabilitate terminal canopy.

Airfield guidance signs.

Taxiway lights, taxiways E and D.

Update airport layout plan.

Brief Description of Project Approved For Collection at EYW and Future Use at EYW: Runway safety area development.

Decision Date: November 5, 2004.

FOR FURTHER INFORMATION CONTACT: Susan Moore, Orlando Airports District Office, (407) 812-6331, extension 120.

Public Agency: Tupelo Airport Authority, Tupelo, Mississippi.

Application Number: 04-04-C-00-TUP.

Application Type: Impose and use a PFC.

PFC Level: $4.50.

Total PFC Revenue Approved In This Decision: $170,000.

Earliest Charge Effective Date: January 1, 2013.

Estimated Charge Expiration Date: July 1, 2014.

Class Of AIR Carriers Not Required To Collect PFC's: None.

Brief Description of Projects Approved For Collection And Use:

Airport terminal and entrance security equipment acquisition.

Airport passenger equipment acquisition.

Airport equipment acquisition.

Brief Description Of Disapproved Project:

Past Airport Improvement Program project audit costs.

Determination: The FAA has determined that these audit costs are administrative elements of Airport Improvement Program (AIP) grant approvals. Administrative elements of AIP grant approvals do not meet the project eligibility requirements § 158.15.

Decision Date: November 5, 2004.

FOR FURTHER INFORMATION CONTACT: David Shumate, Jackson Airports District Office, (601) 664-9882.

Public Agency: Bradford Regional Airport Authority, Lewis Run, Pennsylvania.

Application Number: 04-03-U-00-BFD.

Application Type: Use PFC revenue.

PFC Level: $4.50.

Total PFC Revenue to Be Used in This Decision: $7,996.

Charge Effective Date: May 1, 2003.

Estimated Charge Expiration Date: December 1, 2009.

Class of Air Carriers Not Required to Collect PFC's: No change from previous decision.

Brief Description of Project Approved For Use: Deicing equipment.

Decision Date: November 24, 2004.

FOR FURTHER INFORMATION CONTACT: Lori Ledebohm, Harrisburg Airports District Office, (717) 730-2835.

Public Agency: Allegheny County Airport Authority, Pittsburgh, Pennsylvania.

Application Number: 04-03-U-00-PIT.

Application Type: Use PFC revenue.

PFC Level: $4.50.

Total PFC Revenue to Be Used in This Decision: $7,834,933.

Charge Effective Date: October 1, 2001.

Estimated Charge Expiration Date: October 1, 2006.

Class of Air Carriers Not Required to Collect PFC's: No change from previous decision.

Brief Description of Project Approved For Use: Improve runway safety areas for runways 10L/28R and 10R/28L.

Decision Date: November 24, 2004.

FOR FURTHER INFORMATION CONTACT: Lori Ledebohm, Harrisburg Airports District Office, (717) 730-2835.

Public Agency: Roanoke Regional Airport Commission, Roanoke, Virginia.

Application Number: 04-02-C-00-ROA.

Application Type: Impose and use a PFC.

PFC Level: $4.50.

Total PFC Revenue Approved in This Decision: $8,483,280.

Earliest Charge Effective Date: February 1, 2005.

Estimated Charge Expiration Date: November 1, 2011.

Class of Air Carriers Not Required to Collect PFC's: Air taxi/commercial operators filing FAA Form 1800-31.

Determination: Approved. Based on information contained in the public agency's application, the FAA has determined that the approved class accounts for less than 1 percent of the total annual enplanements at Roanoke Regional Airport.

Brief Description of Projects Approved For Collection and Use:

General aviation rehabilitation phases 1 and 1B (construct taxiway and tie-down).

Rehabilitate and construct taxiway A—north and middle.

Multi-user flight information display system.

Passenger elevator from concourse to ground level.

Drainage improvements.

Update noise exposure maps, phase 1.

Install precision approach path indicator on runway 33.

Construct taxiway A—south.

Sinkhole repair on airfield operations area.

Construct entrance road and non-revenue parking for general aviation area.

Runway snow blower.

Rubber wheel snow loader.

Rehabilitate runways 6/24 and relocate taxiway E; rehabilitate taxiways L, P, G, and K.

Acquire passenger boarding device.

Rehabilitate terminal building.

Construct passenger baggage ramp.

Acquire land in runway 24 protection zone.

Construct perimeter fencing and gate.

Runway tunnel rehabilitation—phase 2.

Acquire land for airport expansion, 2.7 acres.

Acquire navigational aid land—8.5 acres in the critical area.

Overhead directional signage at terminal entrance.

Regional jet adapter for leading bridge.

Relocate taxiways A and G—design and demolish (phases 1 and 2).

Rehabilitate runway 15/33, phases 1 and 2, and construct safety area.

Install engineered materials arresting system for safety area, runway 15.

Noise abatement program, phases 2, 3, and 4.

PFC program formulation and annual administration.

Decision Date: November 24, 2004.

FOR FURTHER INFORMATION CONTACT: Terry J. Page, Washington Airports District Office, (703) 661-1354.

Amendment to PFC Approvals:

Amendment No. City, State | Amendment approved date | Original approved net PFC revenue | Amended approved net PFC revenue | Original estimated charge exp. date | Amended estimated charge exp. date
* 03-04-C-01-AZO Kalamazoo, MI | 10/28/04 | $2,080,000 | $2,080,000 | 05/01/07 | 05/01/06
93-03-C-02-SJC San Jose, CA | 11/23/04 | 17,245,000 | 16,535,353 | 05/01/97 | 05/01/97
92-01-C-04-SBP San Luis Obispo, CA | 11/23/04 | 584,587 | 615,677 | 12/01/94 | 12/01/94
00-03-C-02-MDT Middletown, PA | 11/24/04 | 4,206,613 | 10,903,365 | 01/01/03 | 01/01/03
02-04-C-01-MDT Middletown, PA | 11/24/04 | 66,334,500 | 95,513,500 | 08/01/20 | 11/01/29
Note: The amendment denoted by an asterisk (*) includes a change to the PFC level charged from $3.00 per enplaned passenger to $4.50 per enplaned passenger. For Kalamazoo, MI, this change is effective on January 1, 2005.

Issued in Washington, DC on December 16, 2004.
Joseph G. Washington,
Acting Manager, Financial Analysis and Passenger Facility Charge Branch.

[FR Doc. 04-28233 Filed 12-23-04; 8:45 am]

BILLING CODE 4910-13-M